DEPARTMENT OF HEALTH AND HUMAN SERVICES

Health Resources and Services Administration

Advisory Council on Blood Stem Cell Transplantation

AGENCY: Health Resources and Services Administration (HRSA), Department of Health and Human Services (HHS).

ACTION: Notice.

SUMMARY: In accordance with the Federal Advisory Committee Act, this notice announces that the Secretary's Advisory Council on Blood Stem Cell Transplantation (ACBSCT or Council) has scheduled a public meeting. Information about ACBSCT and the agenda for the meeting can be found on the ACBSCT website at https://bloodstemcell.hrsa.gov/about/advisory-council.

DATES: Thursday, January 23, 2025, 3:00 p.m.-5:00 p.m. Eastern Standard Time.

ADDRESSES: This meeting will be held virtually by webinar. A link to register and join the meeting will be posted at least 10 days prior to the meeting at https://bloodstemcell.hrsa.gov/about/advisory-council.

FOR FURTHER INFORMATION CONTACT: Shelley Tims Grant, Designated Federal Official, Division of Transplantation, Health Systems Bureau, HRSA, 5600 Fishers Lane, 8W-67, Rockville, Maryland 20857; 301-443-8036; or ACBSCTHRSA@hrsa.gov.

SUPPLEMENTARY INFORMATION: ACBST provides advice and recommendations to the Secretary of HHS (Secretary) on policy, program development, and other matters of significance concerning the activities under the authority of 42 U.S.C. 274k (Section 379 of the Public Health Service Act), Public Law 109-129, as amended. The Council may transmit its recommendations through the Administrator of HRSA on matters related to the activities of the C.W. Bill Young Cell Transplantation Program and National Cord Blood Inventory.

The agenda for the January 23, 2025, meeting is being finalized and may include the following topics: graft versus host disease and late effects, strategies for selecting cord blood units for transplantation, HHS' approach for reviewing the state of the science and recommendations on the appropriateness of the inclusion of adult stem cells and birthing tissues as new types of therapies in the C.W. Bill Young Cell Transplantation Program, and other areas to increase blood stem cell donation and transplantation. Agenda items are subject to change as priorities dictate. Refer to ACBSCT's website for any updated information concerning the meeting. Members of the public will have the opportunity to provide comments. Public participants may submit written statements in advance of the scheduled meetings; oral comments will be honored in the order they are requested and may be limited as time allows. Requests to submit a written statement or make oral comments to ACBSCT should be sent to Shelley Tims Grant, using the contact information above at least 3 business days prior to the meeting. Individuals who plan to attend and need special assistance or other reasonable accommodations should notify ACBSCT at the address and phone number listed above at least 10 business days prior to the meeting.

Maria G. Button,
Director, Executive Secretariat.

[FR Doc. 2024-30604 Filed 12-20-24; 8:45 am]

BILLING CODE 4165-15-P